NEIGHBORHOOD REINVESTMENT CORPORATION

Sunshine Act Meetings

TIME AND DATE: 2:00 p.m., Thursday, February 18, 2025.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: CEO Report

IV. Executive Session: CFO Report

V. Executive Session: General Counsel Report

VI. Executive Session: CIO Report

VII. Action Item: Approval of Meeting Minutes for December 19 Regular Board Meeting

VIII. Action Item: Resolution of Recognition of Service for Former FDIC Chairman Gruenberg

IX. Action Item: Resolution of Recognition of Service for Former Acting HUD Secretary Todman

X. Discussion Item: National NeighborWorks Association Presentation

XI. Discussion Item: Capital Corporations Presentation

XII. Discussion Item: Health Insurance Delegation of Authority

XIII. Discussion Item: Professional Learning and Event Planning Management System (PLEMS)

XIV. Discussion Item: Management Program Background and Updates

a. 2025 Board Calendar

b. 2025 Board Agenda Planner

c. CFO Report

i. Financials (through 11/30/24)

ii. Single Invoice Approvals $100K and over

iii. Vendor Payments $350K and over

iv. Exceptions

d. Housing Stability Counseling Program (HSCP)

e. Strategic Plan Scorecard—FY24 Q4 (With Q4 Production)

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2025-02391 Filed 2-5-25; 11:15 am]

BILLING CODE 7570-01-P